DEPARTMENT OF COMMERCE

International Trade Administration

[A-570-135, C-570-136]

Certain Chassis and Subassemblies Thereof From the People's Republic of China: Preliminary Determination of Covered Merchandise Inquiry

AGENCY: Enforcement and Compliance, International Trade Administration, Department of Commerce.

SUMMARY: In response to a covered merchandise referral by U.S. Customs and Border Protection (CBP), the U.S. Department of Commerce (Commerce) preliminarily determines that certain merchandise subject to the inquiry imported into in the United States is covered under the Antidumping and Countervailing Duty (AD/CVD) orders on certain chassis and subassemblies thereof from the People's Republic of China (China).

DATES: Applicable January 26, 2026.

FOR FURTHER INFORMATION CONTACT: Jacob Keller, AD/CVD Operations, Office I, Enforcement and Compliance, International Trade Administration, U.S. Department of Commerce, 1401 Constitution Avenue NW, Washington, DC 20230; telephone: (202) 482-4849.

SUPPLEMENTARY INFORMATION:

Background

On April 3, 2025, Commerce initiated a covered merchandise inquiry to determine whether certain merchandise imported by FEMC LLC's, formerly known as AXN Heavy Duty LLC (AXN) from China is covered merchandise subject to the Orders on chassis from China.¹

¹ See Certain Chassis and Subassemblies Thereof from the People's Republic of China: Notice of Covered Merchandise Referral and Initiation of Covered Merchandise Inquiry, 90 FR 14639 (April 3, 2025) (Initiation Notice); see also Certain Chassis and Subassemblies Thereof from the People's Republic of China: Antidumping Duty Order, 86 FR 36093 (July 8, 2021) and Certain Chassis and Subassemblies Thereof from the People's Republic of China: Countervailing Duty Order and Amended Final Affirmative Countervailing Duty Determination, 86 FR 24844 (May 10, 2021), respectively (collectively, the Orders).

On July 30, 2025, Commerce postponed the final determination of this inquiry, and the revised deadline is now December 29, 2025.²

² See Commerce's Letter, “Deadline Extension for Covered Merchandise Final Determination,” dated July 30, 2025.

Due to the lapse in appropriations and Federal Government shutdown, on November 14, 2025, Commerce tolled all deadlines in administrative proceedings by 47 days.³ Additionally, due to a backlog of documents that were electronically filed via Enforcement and Compliance's Antidumping and Countervailing Duty Centralized Electronic Service System (ACCESS) during the Federal Government shutdown, on November 24, 2025, Commerce tolled all deadlines in administrative proceedings by an additional 21 days.⁴ Accordingly, the deadline for this preliminary determination is now March 9, 2025.

³ See Memorandum, “Deadlines Affected by the Shutdown of the Federal Government,” dated November 14, 2025.

⁴ See Memorandum, “Tolling of all Case Deadlines,” dated November 24, 2025.

For a complete description of the events that followed the initiation of this investigation, see the Preliminary Decision Memorandum.⁵ A list of topics included in the Preliminary Decision Memorandum is included as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁵ See Memorandum, “Certain Chassis and Subassemblies Thereof from the People's Republic of China: Decision Memorandum for the Preliminary Results of Covered Merchandise Inquiry—EAPA Inv. 7839,” dated concurrently with, and hereby adopted by, this notice (Preliminary Decision Memorandum).

Scope of the Orders

The merchandise covered by the Orders are certain chassis and subassemblies from China. For a complete description of the scope of the Orders, see the Preliminary Decision Memorandum.

Merchandise Subject to the Covered Merchandise Inquiry

The merchandise subject to this inquiry are: (1) the axle beams imported by AXN that can be used on chassis, whether (a) incorporated into an axle assembly by AXN by adding Chinese-origin parts; (b) incorporated into an axle assembly by AXN by adding domestically (i.e., U.S.) sourced parts; (c) incorporated into an axle assembly by AXN by adding a mix of Chinese-origin and domestically sourced parts; and/or (d) not incorporated into an axle assembly by AXN (i.e., as imported); (2) Slider boxes that can be used on chassis, as imported by AXN; (3) Landing gear sets, as imported by AXN; and (4) Any merchandise imported by AXN that can be used on chassis, including, but not limited to, axle beams, slider boxes, and landing gear leg components/landing gear sets, that, even if considered individual components, were imported by AXN “with or for further assembly with a finished or unfinished chassis” by virtue of their intended sale by AXN to manufacturers for use in the production of completed trailers.

Methodology

Commerce is conducting this covered merchandise inquiry in accordance with section 517 of the Tariff Act of 1930, as amended (the Act) and 19 CFR 351.227. For a full description of the methodology underlying Commerce's preliminary results, see the Preliminary Decision Memorandum.

Preliminary Determination

Commerce preliminarily determines: (1) the axle beams imported by AXN that can be used on chassis, regardless if incorporated into an axle assembly via scenarios (1)(a)-(c), are covered merchandise; (2) slider boxes that can be used on chassis, as imported by AXN, are covered merchandise; (3) landing gear sets that can be used on chassis, as imported by AXN, are covered merchandise; and (4) any other merchandise considered individual components, such as the landing gear legs, imported by AXN and entered and sold by themselves would not be considered subject merchandise even if the intended sale is to manufacturers for use in the production of completed trailers. For a full description of the methodology underlying our conclusions, see the Preliminary Decision Memorandum.

Suspension of Liquidation

As stated above, Commerce preliminarily determines that AXN's imported axle beams, slider boxes, and landing gear sets for use on chassis are subject merchandise. These affirmative in-scope findings are importer-specific to AXN pursuant to 19 CFR 351.227(m)(1)(i). Therefore, in accordance with 19 CFR 351.227(l)(2), Commerce will direct CBP to: (1) continue the suspension of liquidation of previously suspended entries and apply the applicable AD and CVD cash deposit rates; (2) begin the suspension of liquidation and require a cash deposit of estimated duties, at the applicable rate, for each unliquidated entry of the product not yet suspended, entered, or withdrawn from warehouse, for consumption on or after April 3, 2025, the date of publication of the notice of initiation of this covered merchandise inquiry in the Federal Register; and (3) begin the suspension of liquidation and require a cash deposit of estimated duties, at the applicable rate, for each unliquidated entry of the product not yet suspended, entered, or withdrawn from warehouse, for consumption prior to April 3, 2025.⁶

⁶ See Initiation Notice.

Public Comment

Case briefs or other written comments may be submitted to the Assistant Secretary for Enforcement and Compliance. Pursuant to 19 CFR 351.227(d)(3) interested parties may submit case briefs no later than 14 days after the date of publication of this notice. Rebuttal briefs, limited to issues raised in the case briefs, may be filed not later than seven days after the date of filing for case briefs.

As provided under 19 CFR 351.309(c)(2)(iii) and (d)(2)(iii), we request that interested parties provide at the beginning of their briefs a public, executive summary for each issue raised in their briefs.⁷ Further, we request that interested parties limit their executive summary of each issue to no more than 450 words, not including citations. We intend to use the executive summaries as the basis of the comment summaries included in the issues and decision memorandum that will accompany the final determination in this investigation. We request that interested parties include footnotes for relevant citations in the executive summary of each issue. Note that Commerce has amended certain of its requirements pertaining to the service of documents in 19 CFR 351.303(f).⁸

⁷ We use the term “issue” here to describe an argument that Commerce would normally address in a comment of the Issues and Decision Memorandum.

⁸ See Administrative Protective Order, Service, and Other Procedures in Antidumping and Countervailing Duty Proceedings, 88 FR 67069, 67077 (September 29, 2023).

Pursuant to 19 CFR 351.310(c), interested parties who wish to request a hearing, limited to issues raised in the case and rebuttal briefs, must submit a written request to the Assistant Secretary for Enforcement and Compliance, U.S. Department of Commerce, within 14 days after the date of publication of this notice. Requests should contain the party's name, address, and telephone number, the number of participants, whether any participant is a foreign national, and a list of the issues to be discussed. If a request for a hearing is made, Commerce intends to hold the hearing at a time and date to be determined. Parties should confirm by telephone the date, time, and location of the hearing two days before the scheduled date.

Notification to Interested Parties

This determination is issued and published in accordance with section 517 of the Act and 19 CFR 351.227(e)(1).

Dated: January 21, 2026.
Christopher Abbott,
Deputy Assistant Secretary for Policy and Negotiations, performing the non-exclusive functions and duties of the Assistant Secretary for Enforcement and Compliance.

Appendix I

List of Topics Discussed in the Preliminary Decision Memorandum

I. Summary

II. Background

III. Scope of the Orders

IV. Merchandise Subject to this Inquiry

V. Legal Framework

VI. Analysis

VII. Recommendation

[FR Doc. 2026-01447 Filed 1-23-26; 8:45 am]

BILLING CODE 3510-DS-P